DEPARTMENT OF VETERANS AFFAIRS

Veterans Rural Health Advisory Committee; Notice of Meeting

The Department of Veterans Affairs (VA) gives notice under the Federal Advisory Committee Act, 5 U.S.C. App. 2, that the Veterans Rural Health Advisory Committee will meet on June 24-25, 2014, in Room 717, 1100 First Street NE., Washington, DC, from 9 a.m. to 5 p.m. each day. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

The agenda will include updates from the Committee Chairman and the Director of the Veterans Health Administration Office of Rural Health (ORH), as well as presentations on Delivery Models of Care, Recruitment and Retention of Rural Providers, Telehealth and Program Structures.

Public comments will be received at 4:30 p.m. on June 25, 2014. Interested parties in attending the meeting should contact Mr. Elmer D. Clark, by mail at ORH, 1100 First Street NE., Room 633F, Washington, DC 20002, or by email at Elmer.Clark2@va.gov, or by fax (202) 632-8609. Individuals scheduled to speak are invited to submit a 1-2 page summary of their comments for inclusion in the official meeting record.

Rebecca Schiller,
Committee Management Office.

[FR Doc. 2014-12540 Filed 5-29-14; 8:45 am]

BILLING CODE P